DEPARTMENT OF COMMERCE

International Trade Administration

Notice of Scope Rulings

AGENCY: Import Administration, International Trade Administration, Department of Commerce.

DATES: Effective Date: June 29, 2012.

SUMMARY: The Department of Commerce (“Department”) hereby publishes a list of scope rulings completed between October 1, 2011, and December 31, 2011. In conjunction with this list, the Department is also publishing a list of requests for scope rulings and anticircumvention determinations pending as of December 31, 2011. We intend to publish future lists after the close of the next calendar quarter.

FOR FURTHER INFORMATION CONTACT: Julia Hancock, AD/CVD Operations, China/NME Group, Import Administration, International Trade Administration, U.S. Department of Commerce, 14th Street and Constitution Avenue NW., Washington, DC 20230; telephone: 202-482-1394.

SUPPLEMENTARY INFORMATION:

Background

The Department's regulations provide that the Secretary will publish in the Federal Register a list of scope rulings on a quarterly basis. See 19 CFR 351.225(o). Our most recent notification of scope rulings was published on June 1, 2012. See Notice of Scope Rulings, 77 FR 32568 (June 1, 2012). This current notice covers all scope rulings and anticircumvention determinations completed by Import Administration between October 1, 2011, and December 31, 2011, inclusive. As described below, subsequent lists will follow after the close of each calendar quarter.

Scope Rulings Completed Between October 1, 2011, and December 31, 2011:

People's Republic of China

A-570-967; C-570-968: Aluminum Extrusions from the People's Republic of China

Requestor: Sapa Extrusions; shower door kits containing at the time of importation all of the parts necessary to assemble a complete shower door, including glass panels, without further fabrication are not within the scope of the antidumping and countervailing duty orders; November 7, 2011.

A-570-967; C-570-968: Aluminum Extrusions from the People's Republic of China

Requestor: Tri Vantage; retractable awning mechanisms that, at the time of importation do not contain the fabric awning, are within the scope of the antidumping and countervailing duty orders; October 14, 2011.

A-570-967; C-570-968: Aluminum Extrusions from the People's Republic of China

Requestor: Skyline Displays Inc.; banner stands and back wall kits containing at the time of importation all of the parts necessary to assemble a complete banner stand or back wall, without further fabrication, are not within the scope of the antidumping and countervailing duty orders; October 19, 2011.

A-570-967; C-570-968: Aluminum Extrusions from the People's Republic of China

Requestor: Rubbermaid; cleaning system product lines (frames, handles, and mop handles) composed of aluminum extrusions that do not, at the time of importation, contain all of the parts necessary to comprise a final finished product, are within the scope of the antidumping and countervailing duty orders; October 25, 2011.

A-570-967; C-570-968: Aluminum Extrusions from the People's Republic of China

Requestor: Rubbermaid; non-extruded aluminum decorative waste containers are not within the scope of the antidumping and countervailing duty orders; October 28, 2011.

A-570-967; C-570-968: Aluminum Extrusions from the People's Republic of China

Requestor: Peak Products America Inc.; certain modular aluminum railing system components are within the scope of the antidumping and countervailing duty orders; October 31, 2011.

A-570-967; C-570-968: Aluminum Extrusions from the People's Republic of China

Requestor: Moss Holding Company; its EZ fabric wall display systems are not within the scope of the antidumping and countervailing duty orders; November 9, 2011.

A-570-967; C-570-968: Aluminum Extrusions from the People's Republic of China

Requestor: American Fence Manufacturing; aluminum fence sections, posts and gates are within the scope of the antidumping and countervailing duty orders; December 6, 2011.

A-570-967; C-570-968: Aluminum Extrusions from the People's Republic of China

Requestor: IAP Enclosure Systems LLC; window kits containing at the time of importation all of the parts necessary to assemble a complete window, including the glass, without further fabrication are not within the scope of the antidumping and countervailing duty orders; December 6, 2011.

A-570-967; C-570-968: Aluminum Extrusions from the People's Republic of China

Requestor: Origin Point Brands; certain fence posts, panels, and gates are within the scope of the antidumping and countervailing duty orders; December 13, 2011.

A-570-967; C-570-968: Aluminum Extrusions from the People's Republic of China

Requestor: Ameristar Fence Products; certain aluminum individual fence parts (i.e., posts, rails, and pickets, whether packed in bulk or individually) are within the scope of the antidumping and countervailing duty orders; December 13, 2011.

A-570-864: Pure Magnesium in Granular Form from the People's Republic of China

Requestor: US Magnesium LLC; granular magnesium ground in a third-country, such as Mexico for this inquiry, from pure magnesium ingots produced in the People's Republic of China is within the scope of the antidumping duty order; October 28, 2011.

A-570-864: Pure Magnesium in Granular Form from the People's Republic of China

Requestor: ESM Group Inc.; its United States-origin pure magnesium ingots exported to the People's Republic of China for atomization and re-exported to the United States are not within the scope of the antidumping duty order; October 28, 2011.

A-570-918: Steel Wire Garment Hangers from the People's Republic of China

Requestor: Robert H. Ham Associates Ltd.; its retail display hangers are not within the scope of the antidumping duty order; December 1, 2011.

A-570-890: Wooden Bedroom Furniture from the People's Republic of China

Requestor: University Loft Company; twin-sized Metropolitan (item number 50211SKD) and full-sized Metropolitan (item number 50205SKD) slat beds are not within the scope of the antidumping duty order, while twin-sized (item number 50470-12) and full-sized (item number 50480-12) metal bed headboards and the Upperclassman 2 shelf nightstand (item number 50568-152) are within the scope of the antidumping duty order; December 13, 2011.

A-570-890: Wooden Bedroom Furniture from the People's Republic of China

Requestor: Delta Enterprise Corporation; its Delta Venetian changing table is outside of the scope of the antidumping duty order; December 27, 2011.

Multiple Countries

A-533-838/C-533-839/A-570-892: Carbazole Violet Pigment 23 from India and the People's Republic of China

Requestor: Nation Ford Chemical Co. and Sun Chemical Corp.; finished carbazole violet pigment exported from Japan, made from crude carbazole violet pigment from India and/or the People's Republic of China, is within the scope of the antidumping duty and countervailing duty orders; October 14, 2011.

Anticircumvention Determinations Completed Between October 1, 2011, and December 31, 2011:

A-570-918: Steel Wire Garment Hangers from the People's Republic of China

Requestor: M&B Metal Products Inc.; imports of steel wire garment hangers from the Socialist Republic of Vietnam exported by Angang Clothes Rack Manufacture Co., Ltd. and Quyky Yanglei International Co., Ltd. are circumventing the antidumping duty order through means of third country assembly or completion of merchandise imported from the People's Republic of China; October 28, 2011.

Scope Inquiries Terminated Between October 1, 2011 and December 31, 2011:

None.

Interested parties are invited to comment on the completeness of this list of pending scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: June 19, 2012.
Christian Marsh,
Deputy Assistant Secretary for Antidumping and Countervailing Duty Operations.

[FR Doc. 2012-15995 Filed 6-28-12; 8:45 am]

BILLING CODE 3510-DS-P